FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than July 16, 2012.

A. Federal Reserve Bank of Minneapolis (Jacqueline G. King, Community Affairs Officer) 90 Hennepin Avenue, Minneapolis, Minnesota 55480-0291:

1. Thomas Watson, Grand Forks, North Dakota, as an individual and as trustee, and Thomas Watson and Toby Kommer, Fargo, North Dakota, as trustees of the Bank Forward Employee Stock Ownership Plan, Hannaford, North Dakota (“ESOP”), to acquire control of Security State Bank Holding Company, Fargo, North Dakota (“Company”), and thereby indirectly acquire control of Bank Forward, Hannaford, North Dakota. In addition, Mr. Watson and Mr. Kommer, and the ESOP, have applied as a group acting in concert to control Company.

Board of Governors of the Federal Reserve System, June 29, 2012.
Jennifer J. Johnson,
Secretary of the Board.

[FR Doc. 2012-16483 Filed 7-5-12; 8:45 am]

BILLING CODE 6210-01-P